COMMODITY FUTURES TRADING COMMISSION

Agricultural Advisory Committee

AGENCY: Commodity Futures Trading Commission.

ACTION: Notice; request for nominations and topic submissions.

SUMMARY: The Commodity Futures Trading Commission (CFTC or Commission) is requesting nominations for membership on the Agricultural Advisory Committee (AAC or Committee) and is also inviting the submission of potential topics for discussion at future Committee meetings. The AAC is a discretionary advisory committee established by the Commission in accordance with the Federal Advisory Committee Act.

DATES: The deadline for the submission of nominations and topics is September 7, 2022.

ADDRESSES: Nominations and topics for discussion at future AAC meetings should be emailed to AAC@cftc.gov or sent by hand delivery or courier to Brigitte Weyls, AAC Designated Federal Officer, Commodity Futures Trading Commission, 77 West Jackson Blvd., Suite 800, Chicago, Illinois 60604. Please use the title “Agricultural Advisory Committee” for any nominations or topics you submit. Submissions through the AAC@cftc.gov email address are encouraged.

FOR FURTHER INFORMATION CONTACT: Brigitte Weyls, AAC Designated Federal Officer, at 312-596-0547 or email: bweyls@cftc.gov.

SUPPLEMENTARY INFORMATION: The AAC was established to assist the Commission in assessing issues affecting agricultural producers; consumers; processors; lenders; other major market participants, including derivatives intermediaries, buy-side representatives, and exchanges; regulators, and others interested in or affected by the agricultural derivatives markets through public meetings and Committee reports and recommendations. The duties of the AAC are solely advisory and include calling for reports and/or recommendations by the AAC or AAC subcommittee(s), adopting reports and/or recommendations, transmitting reports to the Commission, and making recommendations to the Commission. Determinations of actions to be taken and policy to be expressed with respect to the reports or recommendations of the AAC are made solely by the Commission.

AAC members generally serve as representatives and provide advice reflecting the views of organizations and entities that constitute the structure of the agricultural derivatives markets. Depending on the issues faced, the Commission may, from time to time, appoint experts to serve as Special Government Employees (SGEs), or officials of other Federal agencies to serve, on the AAC. If nominated, SGEs will be asked to submit and complete a Confidential Financial Disclosure Report (OGE Form 450). Historically, the AAC has had between 30-40 members representing the following viewpoint categories: (i) agricultural producers and/or direct and indirect users/consumers of agricultural products; (ii) providers of agricultural credit; (iii) other major market participants, including derivatives intermediaries, buy-side representatives, and exchanges; (iv) regulators or representatives from other relevant government agencies; and (v) academia or public interest groups. The AAC has held approximately one meeting per year. AAC members serve at the pleasure of the Commission. In addition, AAC members do not receive compensation or honoraria for their services, and they are not reimbursed for travel and per diem expenses.

The Commission seeks members who represent organizations or groups with an interest in the AAC's mission and function and reflect a balanced and representative sample of agricultural producers; consumers; processors; lenders; other major market participants, including derivatives intermediaries, buy-side representatives, and exchanges; regulators, and others interested in or affected by the agricultural derivatives markets. To advise the Commission effectively, AAC members must have a high-level of expertise and experience in the agricultural derivatives markets and the Commission's regulation of such markets, including from a historical perspective. To the extent practicable, the Commission will strive to select members reflecting wide ethnic, racial, gender, and age representation. AAC members should be open to participating in a public forum.

The Commission invites the submission of nominations for AAC membership. Each nomination submission should include relevant information about the proposed member, such as the individual's name, title, and organizational affiliation, as well as information that supports the individual's qualifications to serve on the AAC. The submission should also include suggestions for topics for discussion at future AAC meetings as well as the name and email or mailing address of the person nominating the proposed member.

Submission of a nomination is not a guarantee of selection as a member of the AAC. As noted in the AAC's Membership Balance Plan, the CFTC identifies members for the AAC through a variety of methods. Such methods may include public requests for nominations for membership; recommendations sought from existing advisory committee members; consultations with knowledgeable persons outside the CFTC (agricultural producers, consumer groups, other market participants, state or Federal government agencies, academia, etc.); requests to be represented received from individuals and organizations; and Commissioners' and CFTC staff's professional knowledge of those experienced in the agricultural derivatives markets.

The office of the Commissioner primarily responsible for the AAC plays a primary, but not exclusive, role in this process and makes recommendations regarding membership to the Commission. The Commission, by vote, authorizes proposed members to serve on the AAC.

The Commission also invites submissions from the public regarding the topics on which the AAC should focus. In other words, topics that:

(a) Reflect matters of public concern to agricultural derivatives markets, such as contract design, hedging effectiveness, price discovery, customer protection, the role of intermediaries, exchange rules; and/or

(b) Are important to otherwise assist the Commission in identifying and understanding the impact and implications of the evolving market structure of the agricultural derivatives markets.

Each topic submission should include the commenter's name and email or mailing address.

(Authority: 5 U.S.C. App. II)

Dated: August 2, 2022.
Christopher Kirkpatrick,
Secretary of the Commission.

[FR Doc. 2022-16826 Filed 8-5-22; 8:45 am]

BILLING CODE 6351-01-P